DEPARTMENT OF TRANSPORTATION

Federal Aviation Administration

14 CFR Part 39

[Docket No. FAA-2010-1045; Directorate Identifier 2010-NM-101-AD]

RIN 2120-AA64

Airworthiness Directives; Airbus Model A318, A319, A320, and A321 Series Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

One case of elevator servo-control disconnection has been experienced on an aeroplane of the A320 family. Investigation has revealed that the failure occurred at the servo-control rod eye-end.

Further to this finding, additional inspections have revealed cracking at the same location on a number of other servo-control rod eye-ends. In several cases, both actuators of the same elevator surface were affected. The root cause of the cracking has not yet been determined and tests are ongoing.

A dual servo-control disconnection on the same elevator could result in an uncontrolled surface, the elevator surface being neither actuated nor damped, which could lead to reduced control of the aeroplane.

* * * * *

The proposed AD would require actions that are intended to address the unsafe condition described in the MCAI.

DATES: We must receive comments on this proposed AD by December 23, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus, Airworthiness Office—EAS, 1 Rond Point Maurice Bellonte, 31707 Blagnac Cedex, France; telephone +33 5 61 93 36 96; fax +33 5 61 93 44 51; e-mail: account.airworth-eas@airbus.com; Internet http://www.airbus.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Comments Invited

We invite you to send any written relevant data, views, or arguments about this proposed AD. Send your comments to an address listed under the ADDRESSES section. Include “Docket No. FAA-2010-1045; Directorate Identifier 2010-NM-101-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 7, 2009, we issued AD 2009-17-04, amendment 39-15995 (74 FR 41611, August 18, 2009). That AD corresponds to the European Aviation Safety Agency (EASA) AD 2008-0149, dated August 5, 2008, and requires a one-time inspection of the elevator servo-control rod eye-ends to detect cracking and in case of findings replacement of the cracked rod eye-end with a serviceable unit and readjusting the elevator servo-control.

Since we issued AD 2009-17-04, the EASA, which is the Technical Agent for the Member States of the European Community, has issued EASA Airworthiness Directive 2010-0046, dated March 19, 2010 (referred to after this as “the MCAI”), to supersede EASA AD 2008-0149 to correct an unsafe condition for the specified products. The MCAI states:

One case of elevator servo-control disconnection has been experienced on an aeroplane of the A320 family. Investigation has revealed that the failure occurred at the servo-control rod eye-end.

Further to this finding, additional inspections have revealed cracking at the same location on a number of other servo-control rod eye-ends. In several cases, both actuators of the same elevator surface were affected. The root cause of the cracking has not yet been determined and tests are ongoing.

A dual servo-control disconnection on the same elevator could result in an uncontrolled surface, the elevator surface being neither actuated nor damped, which could lead to reduced control of the aeroplane.

To address this unsafe condition, EASA AD 2008-0149 [which corresponds to FAA AD 2009-17-04] was issued to require a one-time inspection of the elevator servo-control rod eye-ends for aeroplanes which have accumulated more than 10,000 total Flight Cycles (FC) since aeroplane first flight and, in case of findings, the accomplishment of corrective actions. As a result of this one-time inspection campaign, a significant number of rod eye-ends have been found cracked. In addition, some cracks have been reported on rod eye-ends that had not yet accumulated the 10,000 FC of the established threshold.

For the reason described above, this AD partially retains the initial inspection requirement of EASA AD 2008-0149, which is superseded, reduces the compliance time of the initial inspections and introduces a repetitive inspection program.

The corrective actions include replacing any cracked rod eye-end with a serviceable unit and re-adjusting the elevator servo-control. You may obtain further information by examining the MCAI in the AD docket.

Relevant Service Information

Airbus has issued Mandatory Service Bulletin A320-27A1186, Revision 05, including Appendices 1 through 6, dated March 10, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 770 products of U.S. registry.

The actions that are required by AD 2009-17-04 and retained in this proposed AD take about 13 work-hours per product, at an average labor rate of $85 per work hour. Based on these figures, the estimated cost of the currently required actions is $1,105 per product.

We estimate that it would take about 12 work-hours per product to comply with the new basic requirements of this proposed AD. The average labor rate is $85 per work-hour. Based on these figures, we estimate the cost of the proposed AD on U.S. operators to be $785,400, or $1,020 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-15995 (74 FR 41611, August 18, 2009) and adding the following new AD:

Airbus: Docket No. FAA-2010-1045; Directorate Identifier 2010-NM-101-AD.

Comments Due Date

(a) We must receive comments by December 23, 2010.

Affected ADs

(b) This AD supersedes AD 2009-17-04, amendment 39-15995.

Applicability

(c) This AD applies to Airbus Model A318-111, -112, -121, and -122; A319-111, -112, -113, -114, -115, -131, -132, and -133; A320-111, -211, -212, -214, -231, -232, -233; and A321-111, -112, -131, -211, -212, -213, -231, and -232 airplanes; certificated in any category; all manufacturer serial numbers.

Subject

(d) Air Transport Association (ATA) of America Code 27: Flight controls.

Reason

(e) The mandatory continuing airworthiness information (MCAI) states:

One case of elevator servo-control disconnection has been experienced on an aeroplane of the A320 family. Investigation has revealed that the failure occurred at the servo-control rod eye-end.

Further to this finding, additional inspections have revealed cracking at the same location on a number of other servo-control rod eye-ends. In several cases, both actuators of the same elevator surface were affected. The root cause of the cracking has not yet been determined and tests are ongoing.

A dual servo-control disconnection on the same elevator could result in an uncontrolled surface, the elevator surface being neither actuated nor damped, which could lead to reduced control of the aeroplane.

* * * * *

Compliance

(f) You are responsible for having the actions required by this AD performed within the compliance times specified, unless the actions have already been done.

Restatement of Requirements of AD 2009-17-04, With Reduced and Revised Compliance Times and Revised Service Information

(g) Unless already done, do the following actions.

(1) At the applicable times specified in paragraphs (g)(1)(i) and (g)(1)(ii) of this AD: Inspect both the left-hand and right-hand inboard elevator servo-control rod eye-ends for cracking, in accordance with the instructions of Airbus All Operators Telex (AOT) A320-27A1186, Revision 04, dated April 3, 2009; or the Accomplishment Instructions of Airbus Mandatory Service Bulletin A320-27A1186, Revision 05, dated March 10, 2010. As of the effective date of this AD, use only Airbus Mandatory Service Bulletin A320-27A1186, Revision 05, dated March 10, 2010.

(i) For airplanes that have accumulated 10,000 total flight cycles or more as of September 22, 2009 (the effective date of AD 2009-17-04): At the later of the times specified in paragraphs (g)(1)(i)(A) and (g)(1)(i)(B) of this AD.

(A) Within 1,500 flight cycles after September 22, 2009.

(B) Within 1,500 flight cycles after accumulating 10,000 total flight cycles since first flight of the airplane.

(ii) For airplanes that have accumulated less than 10,000 total flight cycles as of September 22, 2009: At the later of the times specified in paragraphs (g)(1)(ii)(A) and (g)(1)(ii)(B) of this AD.

(A) Before the accumulation of 5,000 total flight cycles.

(B) Within 20 months after the effective date of this AD but no later than before the accumulation of 11,500 total flight cycles.

(2) At the applicable time specified in paragraphs (g)(2)(i) and (g)(2)(ii) of this AD: Inspect both the left-hand and right-hand outboard elevator servo-control rod eye-ends for cracking, in accordance with the instructions of Airbus AOT A320-27A1186, Revision 04, dated April 3, 2009; or the Accomplishment Instructions of Airbus Mandatory Service Bulletin A320-27A1186, Revision 05, dated March 10, 2010. As of the effective date of this AD, use only Airbus Mandatory Service Bulletin A320-27A1186, Revision 05, dated March 10, 2010.

(i) For airplanes that have accumulated 10,000 total flight cycles or more as of September 22, 2009: At the later of the times specified in paragraphs (g)(2)(i)(A) and (g)(2)(i)(B) of this AD.

(A) Within 3,000 flight cycles after September 22, 2009.

(B) Within 3,000 flight cycles after accumulating 10,000 total flight cycles since first flight of the airplane.

(ii) For airplanes that have accumulated less than 10,000 total flight cycles as of September 22, 2009: At the later of the times specified in paragraphs (g)(2)(ii)(A) and (g)(2)(ii)(B) of this AD.

(A) Before the accumulation of 7,500 total flight cycles.

(B) Within 40 months after the effective date of this AD but no later than before the accumulation of 13,000 total flight cycles.

(3) Submit a report of the findings of the inspection required by paragraphs (g)(1) and (g)(2) of this AD to Airbus in accordance with the instructions of Airbus AOT A320-27A1186, Revision 04, dated April 3, 2009; or the Accomplishment Instructions of Airbus Mandatory Service Bulletin A320-27A1186, Revision 05, dated March 10, 2010; at the applicable time specified in paragraph (g)(3)(i) or (g)(3)(ii) of this AD. As of the effective date of this AD, use only Airbus Mandatory Service Bulletin A320-27A1186, Revision 05, dated March 10, 2010.

(i) If the inspection was done after September 22, 2009: Submit the report within 40 days after the inspection.

(ii) If the inspection was done before September 22, 2009: Submit the report within 40 days after September 22, 2009.

New Requirements of This AD

Actions

(h) Repeat the inspections of the left-hand and right-hand inboard and outboard elevator servo-control rod eye-ends for cracking as required by paragraphs (g)(1) and (g)(2) of this AD at the later of the times specified in paragraph (h)(1) or (h)(2) of this AD. Repeat the inspections thereafter at intervals not to exceed 5,000 flight cycles.

(1) Within 5,000 flight cycles after the last inspection required by paragraph (g)(1) or (g)(2) of this AD as applicable.

(2) Within 6 months after the effective date of this AD.

(i) If any cracking is found during any inspection required by this AD, before further flight, accomplish all applicable corrective actions in accordance with the Accomplishment Instructions and figures of Airbus Mandatory Service Bulletin A320-27A1186, Revision 05, dated March 10, 2010.

(j) As of the effective date of this AD, no person may install on any airplane an elevator servo-control rod eye-end unless it is new or has been inspected in accordance with the Accomplishment Instructions of Airbus Mandatory Service Bulletin A320-27A1186, Revision 05, dated March 10, 2010, with no crack findings.

(k) Actions done before the effective date of this AD, in accordance with the service information specified in Table 1 of this AD are acceptable for compliance with the corresponding requirements of paragraphs (g)(1) and (g)(2) of this AD.

Table 1—Credit Service Information
Airbus AOT— | Revision— | Dated—
A320-27A1186 | Original | June 23, 2008.
A320-27A1186 | 01 | August 11, 2008.
A320-27A1186 | 02 | March 30, 2009.
A320-27A1186 | 03 | April 1, 2009.
A320-27A1186 | 04 | April 3, 2009.

FAA AD Differences

Note 1: This AD differs from the MCAI and/or service information as follows: No differences.

Other FAA AD Provisions

(l) The following provisions also apply to this AD:

(1) Alternative Methods of Compliance (AMOCs): The Manager, International Branch, Transport Airplane Directorate, FAA, has the authority to approve AMOCs for this AD, if requested using the procedures found in 14 CFR 39.19. Send information to ATTN: Tim Dulin, Aerospace Engineer, International Branch, ANM-116, Transport Airplane Directorate, FAA, 1601 Lind Avenue SW., Renton, Washington 98057-3356; telephone (425) 227-2141; fax (425) 227-1149. Before using any approved AMOC on any airplane to which the AMOC applies, notify your principal maintenance inspector (PMI) or principal avionics inspector (PAI), as appropriate, or lacking a principal inspector, your local Flight Standards District Office. The AMOC approval letter must specifically reference this AD. AMOCs approved previously in accordance with AD 2009-17-04, Amendment 39-15995, are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(m) Refer to MCAI EASA Airworthiness Directive 2010-0046, dated March 19, 2010; and Airbus Mandatory Service Bulletin A320-27A1186, Revision 05, dated March 10, 2010; for related information.

Issued in Renton, Washington, on October 23, 2010.
Michael Kaszycki,
Acting Manager, Transport Airplane Directorate, Aircraft Certification Service.

[FR Doc. 2010-28172 Filed 11-5-10; 8:45 am]

BILLING CODE 4910-13-P